DEPARTMENT OF AGRICULTURE

Forest Service

DEPARTMENT OF THE INTERIOR

Fish and Wildlife Service

Southeast Alaska Federal Subsistence Regional Advisory Council Meeting

AGENCY: Forest Service, USDA; Fish and Wildlife Service, Interior.

ACTION: Notice of meeting.

Date: May 10, 2006.

Time and Location: 10 a.m., Alaska Daylight Savings Time, by teleconference. For how to participate, please see SUPPLEMENTARY INFORMATION below.

SUMMARY: This notice informs the public that the Southeast Alaska Federal Subsistence Regional Advisory Council will hold a public meeting on May 10, 2006. The public is invited to participate and to provide oral testimony.

SUPPLEMENTARY INFORMATION: The Southeast Regional Advisory Council will meet by teleconference on May 10, 2006, for the purpose of reviewing and providing comments on the Federal rulemaking which would result in Federal subsistence management of certain marine waters in the vicintiy of Makhnati and Japonski Islands within the City and Borough of Sitka, Alaska, and for discussing other matters affecting subsistence users in Southeast Alaska. This meeting is open to the public to provide testimony. To participate, call toll free, 1-888-982-4496. The Teleconference Leader is Ms. Melinda Hernandez and the Passcode is Makhnati.

FOR FURTHER INFORMATION CONTACT: Chair, Federal Subsistence Board, c/o Office of Subsistence Management, U.S. Fish and Wildlife Service, 3601 C Street, Suite 1030, Anchorage, Alaska 99503; telephone (907) 786-3888. For questions related to subsistence management issues on National Forest Service lands, contact Steve Kessler, Subsistence Program Leader, 3601 C Street, Suite 1030, Anchorage, Alaska 99503; telephone (907) 786-3592.

Dated: March 30, 2006.
Thomas H. Boyd,
Acting Chair, Federal Subsistence Board.
Dated: March 30, 2006.
Steve Kessler,
Subsistence Program Leader, USDA-Forest Service.

[FR Doc. 06-3766 Filed 4-19-06; 8:45 am]

BILLING CODE 3410-11-M; 4310-55-M